DEPARTMENT OF TRANSPORTATION

Federal Highway Administration

Notice of Final Federal Agency Actions on NYS Route 17, Access Control Project, Elmira to Chemung, City of Elmira, Towns of Ashland, Chemung and Elmira, Chemung County, NY

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to a proposed highway project, which consists of the reconstruction of New York State (NYS) Route 17 from Elmira to Chemung in Chemung County, New York. This project will convert a section of NYS Route 17 from a partial control access expressway having at-grade intersections to a full control of access freeway. Those actions grant licenses, permits, and approvals for the project.

DATES: By this notice, the FHWA is advising the public of final agency actions subject to 23 U.S.C. 139(l)(1). A claim seeking judicial review of the Federal agency actions on the highway project will be barred unless the claim is filed on or before January 21, 2009. If the Federal law that authorizes judicial review of a claim provides a time period of less than 180 days for filing such claim, then that shorter time period still applies.

FOR FURTHER INFORMATION CONTACT: Jeffrey W. Kolb, P.E., Division Administrator, Federal Highway Administration, New York Division, Leo W. O'Brien Federal Building, 7th Floor, Clinton Avenue and North Pearl Street, Albany, New York 12207, Telephone: (518) 431-4127 or Peter White, P.E., Regional Director, NYSDOT Region 6, 107 Broadway, Hornell, NY 14843, Telephone: (607) 324-8404.

SUPPLEMENTARY INFORMATION: Notice is hereby given that the FHWA, and other Federal agencies have taken final agency actions subject to 23 U.S.C. 139(l)(1) by issuing licenses, permits, and approvals for the following highway project in the State of New York: NYS Route 17, Access Control Project, Elmira to Chemung, City of Elmira, Towns of Ashland, Chemung and Elmira, Chemung County. The project will reconstruct a portion of New York State (NYS) Route 17 from Elmira to Chemung in Chemung County, New York. NYS Route 17 will be constructed as a controlled access freeway primarily on its existing alignment with provisions for a 60′ median throughout its limits, from Exit 56 at Jerusalem Hill Road/Water Street to a point east of the existing connector road near Reed's Crossing. A new diamond interchange would be constructed on NYS Route 17 near the existing connector road just east of Reed's Crossing. The project will provide for a continuous County Road (CR) 60 from Exit 56 at Jerusalem Hill Road/Water Street to the new interchange by constructing new CR 60 links between Jerusalem Hill Road/Water Street and Brant Road, between Brant Road and Oneida Road, and between Oneida Road and the existing CR 60 cul-de-sac west of the Lowman Interchange. The actions by the Federal agencies, and the laws under which such actions were taken, are described in the Final Environmental Impact Statement (FEIS) for the project, approved on December 4, 2007 and in the FHWA Record of Decision (ROD) issued on July 10, 2008. The FEIS, ROD, and other project records are available by contacting the FHWA or the New York State Department of Transportation at the addresses provided above.

This notice applies to all Federal agency decisions related to the NYS Route 17, Access Control Project, Elmira to Chemung project as of the issuance date of this notice and all laws under which such actions were taken, including but not limited to:

1. General: National Environmental Policy Act (NEPA) [42 U.S.C. 4321-4351].

2. Federal-Aid Highway Act [23 U.S.C. 109 and 23 U.S.C. 128].

3. Clean Air Act [42 U.S.C. 7401-7671(q)].

4. Section 4(f) of the Department of Transportation Act of 1966 [49 U.S.C. 303].

5. Endangered Species Act [16 U.S.C. 1531-1544 and Section 1536].

6. Fish and Wildlife Coordination Act [16 U.S.C. 661-667(d)].

7. Migratory Bird Treaty Act [16 U.S.C. 703-712].

8. Section 106 of the National Historic Preservation Act of 1966, as amended [16 U.S.C. 470(f) et seq.].

9. Civil Rights Act of 1964 [42 U.S.C. 2000(d)-2000(d)(1)].

10. Farmland Protection Policy Act (FPPA) [7 U.S.C. 4201-4209].

11. Wetlands and Water Resources: Clean Water Act (Section 404, Section 401, Section 319) [33 U.S.C. 1251-1377].

12. Land and Water Conservation Fund (LWCF) [16 U.S.C. 4601-4604].

13. Rivers and Harbors Act of 1899 [33 U.S.C. 401-406].

14. E.O. 11990 Protection of Wetlands.

15. E.O. 11988 Floodplain Management.

16. E.O. 12898 Federal Actions to Address Environmental Justice in Minority Populations and Low Income Populations.

(Catalog of Federal Domestic Assistance Program Number 20.205, Highway Planning and Construction. The regulations implementing Executive Order 12372 regarding intergovernmental consultation on Federal programs and activities apply to this program.)

Authority: 23 U.S.C. 139(l)(1).

Issued on: July 14, 2008.
Jeffrey W. Kolb,
Division Administrator, Federal Highway Administration, Albany, New York.

[FR Doc. E8-17107 Filed 7-24-08; 8:45 am]

BILLING CODE 4910-RY-P